DEPARTMENT OF COMMERCE

National Oceanic and Atmospheric Administration

U.S. Integrated Ocean Observing System (IOOS®) Advisory Committee

AGENCY: National Ocean Service, National Oceanic and Atmospheric Administration (NOAA), Department of Commerce.

ACTION: Notice of open meeting.

SUMMARY: Notice is hereby given of a meeting of the U.S. Integrated Ocean Observing System (IOOS®) Advisory Committee (Committee) in Seattle, WA and La Push, WA.

DATES: The meeting will be held on Tuesday, October 11, 2016, from 9:00 a.m. to 12:00 p.m. in Seattle, WA. The meeting will continue in La Push, WA on Wednesday, October 12, 2016, from 9:00 a.m.-5:00 p.m., and Thursday October 13, 2016 from 9:00 a.m.-2:30 p.m. These times and the agenda topics described below are subject to change. Refer to the Web page listed below for the most up-to-date meeting agenda.

ADDRESSES: On Tuesday, October 11 the meeting will be held in the Hardisty Conference Room, 6th floor, Henderson Hall, University of Washington Applied Physics Laboratory, 1013 NE 40th Street, Seattle, WA 98105. On Wednesday and Thursday, October 12-13 the meeting will be held at the Quileute Tribal Administration Building, 90 Main Street, La Push, WA 98350.

FOR FURTHER INFORMATION CONTACT: Jessica Snowden, Designated Federal Official, U.S. IOOS Advisory Committee, U.S. IOOS Program, 1315 East-West Highway, Second Floor, Silver Spring, MD 20910; Phone 240-533-9466; Fax 301-713-3281; Email jessica.snowden@noaa.gov or visit the U.S. IOOS Advisory Committee Web site at http://www.ioos.noaa.gov/advisorycommittee.

SUPPLEMENTARY INFORMATION: The Committee was established by the NOAA Administrator as directed by Section 12304 of the Integrated Coastal and Ocean Observation System Act, part of the Omnibus Public Land Management Act of 2009 (Pub. L. 111-11). The Committee advises the NOAA Administrator and the Interagency Ocean Observation Committee (IOOC) on matters related to the responsibilities and authorities set forth in section 12302 of the Integrated Coastal and Ocean Observation System Act of 2009 and other appropriate matters as the Under Secretary refers to the Committee for review and advice.

The Committee will provide advice on:

(a) Administration, operation, management, and maintenance of the System;

(b) expansion and periodic modernization and upgrade of technology components of the System;

(c) identification of end-user communities, their needs for information provided by the System, and the System's effectiveness in dissemination information to end-user communities and to the general public; and

(d) any other purpose identified by the Under Secretary of Commerce for Oceans and Atmosphere or the Interagency Ocean Observation Committee.

The meeting will be open to public participation with a 15-minute public comment period on October 11, 2016, from 11:45 a.m. to 12:00 p.m., on October 12, 2016, from 4:30 p.m. to 4:45 p.m., and on October 13, 2016 from 2:00 p.m. to 2:15 p.m. (check agenda on Web site to confirm time.) The Committee expects that public statements presented at its meetings will not be repetitive of previously submitted verbal or written statements. In general, each individual or group making a verbal presentation will be limited to a total time of three (3) minutes. Written comments should be received by the Designated Federal Official by October 7, 2016 to provide sufficient time for Committee review. Written comments received after October 7, 2016, will be distributed to the Committee, but may not be reviewed prior to the meeting date. Seats will be available on a first-come, first-served basis.

Matters to be Considered: The meeting will focus on ongoing committee priorities, as well as learning about ocean observing priorities from tribal, local, and state stakeholders in the Pacific Northwest. The latest version will be posted at http://www.ioos.noaa.gov/advisorycommittee.

Special Accomodations: These meetings are physically accessible to people with disabilities. Requests for sign language interpretation or other auxiliary aids should be directed to Jessica Snowden, Designated Federal Official at 240-533-9466 by October 1, 2016.

Dated: September 12, 2016.
Zdenka Willis,
Director, U.S. IOOS Program, National Ocean Service.

[FR Doc. 2016-23661 Filed 9-29-16; 8:45 am]

BILLING CODE P